FEDERAL MARITIME COMMISSION

[Docket No. 25-02]

Nielsen & Bainbridge, LLC, Complainant v. Ocean Network Express Pte. Ltd.; Orient Overseas Container Line Limited; OOCL (Europe) Limited; Evergreen Line Joint Service Agreement (FMC Agreement No. 011982); Evergreen Marine Corporation (Taiwan) Ltd.; Evergreen Marine (UK) Limited, Italia Marittima SpA; Evergreen Marine (Hong Kong) Ltd.; Evergreen Marine (Singapore) Pte. Ltd.; And Yang Ming Marine Transport Corporation, Respondents; Notice of Filing of Complaint and Assignment

Served: January 8, 2025.

Notice is given that a complaint has been filed with the Federal Maritime Commission (the “Commission”) by Nielsen & Bainbridge, LLC (the “Complainant”) against Ocean Network Express Pte. Ltd.; Orient Overseas Container Line Limited; OOCL (Europe) Limited; Evergreen Line Joint Service Agreement (FMC Agreement No.011982); Evergreen Marine Corporation (Taiwan) Ltd.; Evergreen Marine (UK) Limited; Italia Marittima SpA; Evergreen Marine (Hong Kong) Ltd.; Evergreen Marine (Singapore) Pte. Ltd.; and Yang Ming Marine Transport Corporation (collectively, the “Respondents”). Complainant states that the Commission has subject-matter jurisdiction over this Complaint pursuant to the Shipping Act of 1984, as amended, 46 U.S.C. 40101 et seq. and personal jurisdiction over each of the Respondents as ocean common carriers, as defined in 46 U.S.C. 40102(18), that has entered into a service contract, as defined in 46 U.S.C. 40102(21), with Complainant.

Complainant is a limited liability company existing under the laws of Delaware with a mailing address in New Rochelle, New York that formerly conducted business as “NBG Home.”

Complainant identifies Respondent Ocean Network Express Pte. Ltd. as a company existing under the laws of Singapore with its principal place of business located in Singapore whose agent in the United States is Ocean Network Express (North America) Inc. with its principal place of business located in Richmond, Virginia.

Complainant identifies Respondent Orient Overseas Container Line Limited as a company existing under the laws of Hong Kong with its principal place of business located in Wanchai, Hong Kong whose agent in the United States is OOCL (USA) Inc. with its principal place of business located in South Jordan, Utah.

Complainant identifies Respondent OOCL (Europe) Limited as a company existing under the laws of the United Kingdom with its principal place of business located in Levington Suffolk, United Kingdom whose agent in the United States is OOCL (USA) Inc. with its principal place of business located in South Jordan, Utah.

Complainant identifies Respondent Evergreen Marine Corporation (Taiwan) Ltd. as a company existing under the laws of Taiwan with its principal place of business located in Taipei City, Taiwan.

Complainant identifies Respondent Evergreen Marine (UK) Limited as a company existing under the laws of the United Kingdom with its principal place of business located in London, United Kingdom.

Complainant identifies Respondent Italia Marittima SpA as a company existing under the laws of Italy with its principal place of business located in Trieste, Italy.

Complainant identifies Respondent Evergreen Marine (Hong Kong) Ltd. as a company existing under the laws of Hong Kong with its principal place of business located in Wan Chai, Hong Kong.

Complainant identifies Respondent Evergreen Marine (Singapore) Pte. Ltd. as a company existing under the laws of Singapore with its principal place of business in Southpoint, Singapore.

Complainant identifies Respondent Evergreen Line Joint Service Agreement (FMC Agreement No. 011982) as a vessel-operating ocean common carrier consisting of Evergreen Marine Corporation (Taiwan) Ltd., Evergreen Marine (UK) Limited, Italia Marittima SpA, Evergreen Marine (Hong Kong) Ltd., Evergreen Marine (Singapore) Pte. Ltd., and non-party, Evergreen Marine (Asia) Pte. Ltd.

Complainant identifies Respondent Yang Ming Marine Transport Corporation as a company existing under the laws of Taiwan with its principal place of business located in Keelung City, Taiwan whose agent in the United States is Yang Ming (America) Corp. with its principal place of business located in Newark, New Jersey.

Complainant alleges that Respondents violated 46 U.S.C. 41102(c), 41104(a)(2), 41104(a)(10); and 46 CFR 545.5. Complainant alleges these violations arose from a practice of systematically failing to meet service commitments, the use of coercion to require payment of extracontractual surcharges prior to performance of service commitments and to require amendments to service contracts, an unreasonable assessment of demurrage and detention charges, and other acts or omissions of the Respondents.

An answer to the complaint must be filed with the Commission within 25 days after the date of service.

The full text of the complaint can be found in the Commission's electronic Reading Room at https://www2.fmc.gov/readingroom/proceeding/25-02/. This proceeding has been assigned to the Office of Administrative Law Judges. The initial decision of the presiding judge shall be issued by January 8, 2026, and the final decision of the Commission shall be issued by July 22, 2026.

David Eng,
Secretary.

[FR Doc. 2025-00784 Filed 1-14-25; 8:45 am]

BILLING CODE P